DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On May 18, 2018, OFAC determined that the property and interests in property subject to U.S. jurisdiction of the following persons are blocked under the relevant sanctions authorities listed below.

Individuals

1. CONTRERAS HERNANDEZ, Marleny Josefina (Latin: CONTRERAS HERNÁNDEZ, Marleny Josefina) (a.k.a. CONTRERAS DE CABELLO, Marleny; a.k.a. CONTRERAS DE CABELLO, Marleny Josefina; a.k.a. CONTRERAS, Marleny), Monagas, Venezuela; DOB 14 Jun 1963; citizen Venezuela; Gender Female; Cedula No. 6437804 (Venezuela) (individual) [VENEZUELA]. Designated pursuant to section 1(a)(ii)(C) of Executive Order 13692 of March 8, 2015, “Blocking Property and Suspending Entry of Certain Persons Contributing to the Situation in Venezuela” (E.O. 13692), for being a current or former official of the Government of Venezuela.

2. CABELLO RONDON, Diosdado (Latin: CABELLO RONDÓN, Diosdado), Monagas, Venezuela; DOB 15 Apr 1963; citizen Venezuela; Gender Male; Cedula No. 8370825 (Venezuela); Passport A0237802 (Venezuela) (individual) [VENEZUELA]. Designated pursuant to section 1(a)(ii)(C) of E.O. 13692 for being a current or former official of the Government of Venezuela.

3. CABELLO RONDON, Jose David (Latin: CABELLO RONDÓN, José David), Monagas, Venezuela; DOB 11 Sep 1969; citizen Venezuela; Gender Male; Cedula No. 10300226 (Venezuela); Passport B0133819 (Venezuela) expires 08 Apr 2013 (individual) [VENEZUELA]. Designated pursuant to section 1(a)(ii)(C) of E.O. 13692 for being a current or former official of the Government of Venezuela.

4. SARRIA DIAZ, Rafael Alfredo (a.k.a. SARRIA, Rafael; a.k.a. SARRIA-DIAZ, Rafael A), Miranda, Venezuela; La Moraleja, Madrid, Spain; 9410 NW 14th Street, Pembroke Pines, FL 33024, United States; 5599 NW 23rd Ave, Boca Raton, FL 33496, United States; 480 Park Avenue, Apt. 10B, New York, NY 10022, United States; Calle de la Pena Pintada, 11, Madrid, Comunidad de Madrid 28034, Spain; Calle Los Malabares, Quinta Anauco, Valle Arriba, Caracas, Miranda 1080, Venezuela; DOB 11 Nov 1965; Gender Male; Cedula No. 6974302 (Venezuela); Passport 114910699 (Venezuela) expires 02 Feb 2020; alt. Passport F0018546 (Venezuela) expires 02 Jul 2014 (individual) [VENEZUELA] (Linked To: CABELLO RONDON, Diosdado). Designated pursuant to section 1(a)(ii)(E) of E.O. 13692 for having acted for or on behalf of CABELLO RONDON, Diosdado, a person whose property and interests in property are blocked pursuant to E.O. 13692.

Entities

1. 11420 CORP., 5599 NW 23rd Avenue, Boca Raton, FL 33496, United States; 11420 NW 4 Street, Plantation, FL 33325, United States; Company Number 27-0746046 (United States) [VENEZUELA] (Linked To: SARRIA DIAZ, Rafael Alfredo). Designated pursuant to section 1(a)(ii)(E) of E.O. 13692 for being owned or controlled by SARRIA DIAZ, Rafael Alfredo, a person whose property and interests in property are blocked pursuant to E.O. 13692.

2. NOOR PLANTATION INVESTMENTS LLC, 5599 NW 23rd Avenue, Boca Raton, FL 33496, United States; 11401 NW 2 Street, Plantation, FL 33325, United States; 11441 NW 2 Street, Plantation, FL 33325, United States; 11481 NW 2 Street, Plantation, FL 33325, United States; Company Number 27-1713953 (United States) [VENEZUELA] (Linked To: SARRIA DIAZ, Rafael Alfredo). Designated pursuant to section 1(a)(ii)(E) of E.O. 13692 for being owned or controlled by SARRIA DIAZ, Rafael Alfredo, a person whose property and interests in property are blocked pursuant to E.O. 13692.

3. SAI ADVISORS INC., 5599 NW 23rd Avenue, Boca Raton, FL 33496, United States; 11251 NW 2 Street, Plantation, FL 33325, United States; 11250 NW 4 Street, Plantation, FL 33325, United States; 11201 NW 2 Street, Plantation, FL 33325, United States; 11351 NW 2 Street, Plantation, FL 33325, United States; 11301 NW 2 Street, Plantation, FL 33325, United States; 11300 NW 4 Street, Plantation, FL 33325, United States; 11350 NW 4 Street, Plantation, FL 33325, United States; 11200 NW 4 Street, Plantation, FL 33325, United States; Company Number 68-0678326 (United States) [VENEZUELA] (Linked To: SARRIA DIAZ, Rafael Alfredo). Designated pursuant to section 1(a)(ii)(E) of E.O. 13692 for being owned or controlled by SARRIA DIAZ, Rafael Alfredo, a person whose property and interests in property are blocked pursuant to E.O. 13692.

Dated: May 18, 2018.
Andrea Gacki,
Acting Director, Office of Foreign Assets Control.

[FR Doc. 2018-11656 Filed 5-30-18; 8:45 am]

BILLING CODE 4810-AL-P